NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by January 4, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant

Permit Application No. 2010-021

Sam Feola, Raytheon Polar Services Company, 7400 South Tucson Way, Centennial, CO 80112.

Activity for Which Permit is Requested

Enter Antarctic Specially Protected Areas. The applicant plans to enter Cape Crozier (ASPA 124) to conduct occasional operations, maintenance, construction and rehabilitation to open and close facilities used for scientific research.

Location

Cape Crozier (ASPA 124).

Dates

January 1, 2009 to September 20, 2014.

2. Applicant

Permit Application No. 2010-022

Paul Morin, Department of Geology and Geophysics, University of Minnesota, Minneapolis, MN 55455.

Activity for Which Permit is Requested

Enter Antarctic Specially Protected Areas. The applicant proposes to enter Cape Crozier (ASPA 124), Cape Royds (ASPA 121), and Cape Bird, Ross Island to collect ground control points (GCP) as part of a project to accurately rectify high-resolution satellite imagery in the McMurdo Sound region. The high-resolution satellite imagery is used for planning, logistics, search and rescue maps, and scientific analysis. In order to assure the highest accuracy possible, these images need to be corrected by locating reliable, distinguishable features on the ground.

Location

Cape Crozier (ASPA 124), Cape Royds (ASPA 121), and Cape Bird, Ross Island.

Dates

January 7-14, 2010.

Nadene G. Kennedy,
Permit Officer, Office of Polar Programs.

[FR Doc. E9-28949 Filed 12-3-09; 8:45 am]

BILLING CODE 7555-01-P